DEPARTMENT OF HEALTH AND HUMAN SERVICES

Administration for Children and Families

Proposed Information Collection Activity; Comment Request

Title: Low Income Home Energy Assistance Program (LIHEAP) Grantee Survey.

OMB No.: 0970-0076.

Description: The LIHEAP Grantee Survey is an annual data collection activity, which is sent to the 50 States and the District of Columbia grantees administering the Low Income Home Energy Assistance Program (LIHEAP). The survey requests estimates on sources and uses of funds under LIHEAP—preliminary estimates for the current fiscal year and final estimates for the previous fiscal year. We are proposing changes in the collection of data using the Grantee Survey, generally to reduce the burden on grantees. In addition, the annual submission of the Grantee Survey will be changed from voluntary to mandatory. The change from voluntary to mandatory is necessary to increase the reliability of the data and to make it available on a more timely basis. Section 2605(b)(14) of the Low Income Home Energy Assistance Act, as amended, requires grantees to provide assurance that they will cooperate with the Secretary with respect to data collecting and reporting. This is one of 16 assurances a State's governor or someone specifically designated by the governor, makes as part of each year's LIHEAP application.

To be in full compliance with section 2605(b)(14), grantees must return the completed survey by the due date.

The preliminary estimates collected by the Grantee Survey for the current fiscal year are needed to provide the Administration and Congress with fiscal and case load estimates in time for hearings about LIHEAP appropriations and program performance. Final estimates for the previous fiscal year will be included in the Department's annual LIHEAP Report to Congress and will be posted on the Department's LIHEAP web site for access by grantees and other interested parties.

Respondents: 50 States and the District of Columbia.

Annual Burden Estimates

Instrument | Number of respondents | Number of responses per respondent | Average burden hours per response | Total burden hours
Survey | 51 | 1 | 3.5 | 178.5
Estimated Total Annual Burden Hours: |  |  |  | 178.5

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 4, 2001.
Bob Sargis,
Reports Clearance Officer.

[FR Doc. 01-8765 Filed 4-9-01; 8:45 am]

BILLING CODE 4184-01-M